DEPARTMENT OF ENERGY

Federal Energy Regulatory Commission

[Docket No. RP04-18-000]

Natural Gas Pipeline Company of America; Notice of Proposed Changes in FERC Gas Tariff

October 8, 2003.

Take notice that on October 1, 2003, Natural Gas Pipeline Company of America (Natural) tendered for filing to become part of its FERC Gas Tariff, Sixth Revised Volume No. 1, Sixth Revised Sheet No. 414, to be effective October 1, 2003.

Natural states that the purpose of this filing is to update its list of non-conforming agreements. Natural states that it also tendered for filing copies of the Firm Transportation Rate Discount Agreement with The Board of Trustees of University of Illinois. Natural further states that copies of the filing are being mailed to its customers and interested state commissions.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the eLibrary (FERRIS) link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Comment Date: October 14, 2003.

Magalie R. Salas,
Secretary.

[FR Doc. E3-00061 Filed 10-15-03; 8:45 am]

BILLING CODE 6717-01-P